DEPARTMENT OF COMMERCE

National Oceanic and Atmospheric Administration

[I.D. 051004J]

Endangered Species; File No. 1462

AGENCY: National Marine Fisheries Service (NMFS), National Oceanic and Atmospheric Administration (NOAA), Commerce.

ACTION: Receipt of application.

SUMMARY: Notice is hereby given that Inwater Research Group, Inc., 4160 NE Hyline Dr., Jensen Beach, FL, has applied in due form for a permit to take loggerhead (Caretta caretta), green (Chelonia mydas), hawksbill (Eretmochelys imbricata), and Kemp's ridley (Lepidochelys kempii) sea turtles for purposes of scientific research.

DATES: Written, telefaxed, or e-mail comments must be received on or before June 17, 2004.

ADDRESSES: The application and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may be submitted by facsimile at (301)713-0376, provided the facsimile is confirmed by hard copy submitted by mail and postmarked no later than the closing date of the comment period.

Comments may also be submitted by e-mail. The mailbox address for providing email comments is NMFS.Pr1Comments@noaa.gov. Include in the subject line of the e-mail comment the following document identifier: File No. 1462.

FOR FURTHER INFORMATION CONTACT: Patrick Opay or Ruth Johnson, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposed to annually capture 100 loggerhead, 150 green, 25 hawksbill and 25 Kemp's ridley sea turtles using a large mesh tangle net in the waters of Lake Worth and the Indian River Lagoons of Florida. Animals will be measured, flipper and passive integrated transponder (PIT) tagged, weighed, blood sampled and released. Dietary samples will also be extracted from a subset of 40 green sea turtles annually using a sampling technique called lavage. This research will provide size frequency, disease rate, relative abundance and feeding ecology data on marine turtles utilizing Lake Worth and the Indian River Lagoon System of Florida. Information collected from this study will benefit state and federal managers in the conservation of these marine turtle species. The applicant requests a 5 year permit.

Dated: May 12, 2004.
Stephen L. Leathery,
Chief, Permits, Conservation and Education Division, Office of Protected Resources, National Marine Fisheries Service.

[FR Doc. 04-11227 Filed 5-17-04; 8:45 am]

BILLING CODE 3510-22-S